DEPARTMENT OF THE INTERIOR

Bureau of Indian Affairs

Indian Gaming

AGENCY: Bureau of Indian Affairs, Interior.

ACTION: Notice of approved Tribal-State Compact.

SUMMARY: Pursuant to Section 11 of the Indian Gaming Regulatory Act of 1988 (IGRA), Pub. L. 100-497, 25 U.S.C. § 2710, the Secretary of the Interior shall publish, in the Federal Register, notice of approved Tribal-State Compacts for the purpose of engaging in Class III gaming activities on Indian lands. The Deputy Assistant Secretary—Indian Affairs, Department of the Interior, through his delegated authority, has approved the Tribal-State Compact between the Coushatta Tribe of Louisiana and the State of Louisiana, which was executed on December 11, 2000, except for Section 12(C) which has been disapproved pursuant to the severability clause in Section 2(F).

DATES: This action is effective February 12, 2001.

FOR FURTHER INFORMATION CONTACT: George T. Skibine, Director, Office of Indian Gaming Management, Bureau of Indian Affairs, Washington, DC 20240, (202) 219-4066.

Dated: January 25, 2001.
James H. McDivitt,
Deputy Assistant Secretary—Indian Affairs (Management).

[FR Doc. 01-3611 Filed 2-8-01; 12:29 pm]

BILLING CODE 4310-02-M